NATIONAL SCIENCE FOUNDATION

Special Emphasis Panel in Materials Research; Notice of Meetings

In accordance with the Federal Advisory Committee Act (Pub. L. 92-463 as amended), the National Science Foundation announces the following meetings:

Name: Special Emphasis Panel in Materials Research (DMR) #1203

Date/Time: Monday, May 8, 2000, Room 1060.

Place: National Science Foundation, 4201 Wilson Blvd., Arlington, VA 22230

Type of Meeting: CLOSED.

Contact Person: Dr. W. Lance Haworth, Executive Officer, Division of Materials Research, Room 1065, National Science Foundation, 4201 Wilson Boulevard, Arlington, VA 22230, Telephone (703) 306-1815.

Purpose of Meeting: To provide advice and recommendations concerning proposals submitted to NSF for financial support.

Agenda: Review and evaluate proposals as part of the selection process to determine finalists considered for support for the “Cooperative Activities in Materials Sciences between the NSF and the European Commission” proposals submitted in response to program solicitation number NSF 00-18.

Reason for Closing: The activity being evaluated may include information of a proprietary or confidential nature, including technical information; financial data, such as salaries and personal information concerning individuals associated with the proposals. These matters are exempt under 5 U.S.C. 552b(c), (4) and (6) of the Government in the Sunshine Act.

Dated: April 19, 2000.
Karen J. York,
Committee Management Officer.

[FR Doc. 00-10126 Filed 4-21-00; 8:45 am]

BILLING CODE 7555-01-M